DEPARTMENT OF COMMERCE

National Oceanic and Atmospheric Administration

RIN 0648-XF324

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will convene a meeting of its Archipelagic Fishery Ecosystem Plan Team (FEP) and the Fishery Data Collection and Research Committee—Technical Committee (FDCRC-TC). The Archipelagic FEP Team will review the fishery performance, ecosystem consideration, and data integration chapter of the Stock Assessment and Fishery Evaluation (SAFE) Report for the Western Pacific region, conduct the evaluation of the 2016 catches to the 2016 Annual Catch Limits (ACL) for the coral reef, crustacean, and Territory bottomfish fisheries, review of the ecosystem component analysis, monument expansion area regulations, aquaculture, and essential fish habitat. The FDCRC-TC will review the status of the data collection improvement efforts in the Western Pacific region, identify gaps in the non-commercial data collection and conduct a writing workshop to develop the Marine Recreational Information Program—Pacific Islands Regional Implementation Plan.

DATES: The Archipelagic FEP Team meeting will be held between 8:30 a.m. and 5 p.m. on April 18-19, 2017. The FDCRC-TC will be held on April 20-21, 2017. For specific times and agendas, see SUPPLEMENTARY INFORMATION.

ADDRESSES: The FEP Team and FDCRC-TC meetings will be held at the Western Pacific Regional Fishery Management Council Conference Room, 1164 Bishop St., Suite 1400, Honolulu, HI 96813; phone: (808) 522-8220.

FOR FURTHER INFORMATION CONTACT: Kitty M. Simonds, Executive Director, phone: (808) 522-8220.

SUPPLEMENTARY INFORMATION: Public comment periods will be provided throughout the agendas. The order in which agenda items are addressed may change. The meetings will run as late as necessary to complete scheduled business.

Agenda for Archipelagic FEP Team Meeting

8:30 a.m.-5 p.m., Tuesday, April 18, 2017

1. Welcome and introductions

2. Approval of draft agenda, 2016 report & assignment of rapporteurs

3. Report on previous Plan Team recommendations and Council actions

4. 2017 Annual/Stock Assessment and Fishery Evaluation (SAFE) Report

A. Fishery Performance

1. Archipelagic fisheries modules

a. American Samoa

1. Coral reef fisheries

2. Bottomfish fishery

3. Crustacean fishery

4. Precious coral fishery

b. Guam

1. Coral reef fisheries

2. Bottomfish fishery

3. Crustacean fishery

4. Precious coral fishery

c. CNMI

1. Coral reef fisheries

2. Bottomfish fishery

3. Crustacean fishery

4. Precious coral fishery

d. Hawaii

1. Coral reef fisheries (commercial and non-commercial)

2. Bottomfish fishery

3. Crustacean fishery

4. Precious coral fishery

2. Team discussion on the species groupings for the SAFE report

3. Discussions

4. Public Comment

B. Ecosystem Considerations

1. Protected species section

2. Climate, ecosystems and biological section

a. Environmental and climate variables

b. Life history and length-derived variables

3. Habitat section

4. Socioeconomics section

5. Marine Planning section

6. Discussions

7. Public Comment

C. Administrative Reports

1. Number of federal permits

2. Regulatory actions in 2016

3. Discussions

4. Public Comment

D. Data Integration Chapter

1. Report on the Data Integration Workshop

2. Archipelagic data integration analytical framework

3. Discussions

4. Public Comment

8:30 a.m.-5 p.m., Wednesday, April 19, 2017

5. Action agenda items

A. Evaluating 2016 catches to its respective 2016 ACLs

1. Coral reef fisheries

2. Crustacean fisheries

3. Territory bottomfish fisheries

B. Options for Ecosystem Component (EC) designation based on the EC analysis

C. Monument expansion area regulations

D. Aquaculture management alternatives

E. Non-fishing impacts to Essential Fish Habitat (EFH) review and options for omnibus EFH refinement

F. Precious corals EFH review and options for refinement

G. Discussions

H. Public Comment

6. Community snap-shot tool

7. Monitoring and updating priorities

A. Council's 5-year research priorities—work item (process of monitoring the status of the research priorities)

B. Cooperative Research priorities

8. General Discussions

9. Archipelagic Fishery Ecosystem Plan Team Recommendations

10. Other Business

Agenda for FDCRC-TC Meeting

8:30 a.m.-5 p.m., Thursday, April 20, 2017

1. Welcome and introductions

2. Approval of draft agenda, 2016 report & assignment of rapporteurs

3. Report on previous FDCRC-TC recommendations and Council actions

4. Status of the fishery dependent data collection improvement efforts

A. American Samoa

B. Guam

C. CNMI

D. Hawaii

E. Marine Recreational Information Program (MRIP) and Territory Science Initiative (TSI) Projects

F. Western Pacific Fishery Information Network (WPacFIN) Database Transition and Online Interface

G. Discussions

H. Public Comment

5. Status of the ecosystem monitoring and research

A. Pacific Island Fisheries Research Program

B. Life history research

C. Hawaii ecosystem research

D. Socio-economics

E. Guam ecosystem research

F. Discussions

G. Public Comment

6. MRIP Updates

A. MRIP overview

B. MRIP National Academy of Science Review

C. MRIP Strategic Plan

D. MRIP Regional Implementation Plan

1. Discussion on status of current data collection

2. Discussion on gaps and need

E. Discussions

F. Public Comment

7. General Discussions

8. FDCRC-TC Recommendations

9. Other Business

8:30 a.m.-12 p.m. Friday, April 21, 2017

10. MRIP Regional Implementation Plan Writing Workshop (sub-group of the FDCRC-Tech Committee only)

A. Instruction for drafting the implementation plan

B. Overview of available text from WPacFIN

C. Drafting of Territory Sections of the Regional Implementation Plan

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 28, 2017.
Tracey L. Thompson,
Acting Deputy Director, Office of Sustainable Fisheries, National Marine Fisheries Service.

[FR Doc. 2017-06410 Filed 3-31-17; 8:45 am]

BILLING CODE 3510-22-P